DEPARTMENT OF THE TREASURY

Internal Revenue Service

26 CFR Part 1

[TD 9428]

RIN 1545-BD72

Section 1367 Regarding Open Account Debt

Correction

In rule document E8-24926 beginning on page 62199 in the issue of Monday, October 20, 2008, make the following correction:

§1.1367-2 [Corrected]

On page 62203, in the first column, in the sixth full paragraph, in the fourth line, in §1.1367-2(e), “Example 7” should read “Example 7”.

[FR Doc. Z8-24926 Filed 11-24-08; 8:45 am]

BILLING CODE 1505-01-D